COMMITTEE FOR PURCHASE FROM PEOPLE WHO ARE BLIND OR SEVERELY DISABLED

Procurement List Additions

AGENCY: Committee for Purchase From People Who Are Blind or Severely Disabled.

ACTION: Additions to Procurement List.

SUMMARY: This action adds to the Procurement List products and services to be furnished by nonprofit agencies employing persons who are blind or have other severe disabilities.

DATES: Effective Date: August 18, 2006.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, Telephone: (703) 603-7740, Fax: (703) 603-0655, or e-mail SKennerly@jwod.gov.

SUPPLEMENTARY INFORMATION: On May 12, 2006 and May 19, 2006, the Committee for Purchase From People Who Are Blind or Severely Disabled published notice (71 FR 27676 and 29121) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Product/NSN: Hydration System Carrier Assembly (MOLLE Components) (NTE 40,000 Units).

8465-01-524-8362—Universal Camouflage.

8465-01-519-2306—Woodland Camouflage.

8465-01-519-2353—Desert Camouflage.

NPA: Lions Services, Inc., Charlotte, North Carolina.

Contracting Activity: Defense Supply Center Philadelphia, Philadelphia, Pennsylvania.

Product/NSN: Keeper w/Slide Adaptor Assembly (MOLLE Components).

8465-01-524-7253—Universal Camouflage.

8465-01-491-7443—Desert Camouflage.

8465-01-465-2062—Woodland Camouflage.

NPA: Lions Services, Inc., Charlotte, North Carolina.

Contracting Activity: Defense Supply Center Philadelphia, Philadelphia, Pennsylvania.

Services

Service Type/Location: Custodial Services, 15th MDG Facilities, Life Skills, Bldg 554, Hickam AFB, Hawaii.

NPA: Network Enterprises, Inc., Honolulu, Hawaii.

Contracting Activity: 15th Contracting Squadron, Hickam Air Force Base, Hawaii.

Service Type/Location: Grounds Maintenance, Fort Douglas, Salt Lake City, Utah.

NPA: Community Foundation for the Disabled, Inc., Salt Lake City, Utah.

Contracting Activity: U.S. Army, 96th Regional Support Command, Salt Lake City, Utah.

Service Type/Location: Vehicle Maintenance Services, Building 386 Dickman Avenue, Fort Riley, Kansas.

NPA: Skookum Educational Programs, Port Townsend, Washington.

Contracting Activity: GSA, Fleet Management Division, Kansas City, Missouri.

This action does not affect current contracts awarded prior to the effective date of this addition or options that may be exercised under those contracts.

Sheryl D. Kennerly,
Director, Information Management.

[FR Doc. E6-11164 Filed 7-13-06; 8:45 am]

BILLING CODE 6353-01-P